DEPARTMENT OF HEALTH AND HUMAN SERVICES

National Institutes of Health

National Cancer Institute Amended; Notice of Meeting

Notice is hereby given of a change in the meeting of the National Cancer Institute Special Emphasis Panel, November 07, 2017, 2:00 p.m. to November 08, 2017, 6:00 p.m., Bethesda North Marriott Hotel & Conference Center, Montgomery County Conference Center Facility, 5701 Marinelli Road, North Bethesda, MD, 20852 which was published in the Federal Register on September 22, 2017, 82 FR 44430.

This meeting notice is amended to change the meeting location to the DoubleTree Hotel Bethesda, 8120 Wisconsin Avenue, Bethesda, MD 20814. The meeting is closed to the public.

Dated: September 29, 2017.
Melanie J. Pantoja,
Program Analyst, Office of Federal Advisory Committee Policy.

[FR Doc. 2017-21387 Filed 10-4-17; 8:45 am]

BILLING CODE 4140-01-P